DEPARTMENT OF TRANSPORTATION

Pipeline and Hazardous Materials Safety Administration

[Docket No. PHMSA-2013-0195, Notice No. 13-12]

Safety Advisory: Unauthorized Filling of Compressed Gas Cylinders

AGENCY: Pipeline and Hazardous Materials Safety Administration (PHMSA), DOT.

ACTION: Safety Advisory Notice.

SUMMARY: This is to notify the public that PHMSA has confirmed that Komer Carbonic Corp., 12120 Cloverdale Street, Detroit, MI 48021, improperly filled and offered for transportation high pressure compressed gas cylinders (DOT Specification 3A, 3AA and 3AL) without verifying that they met the appropriate safety requirements for continued use. The US DOT PHMSA was alerted on July 5, 2013 and verified on July 9, 2013 that Komer Carbonic Corp. filled and transported compressed gas cylinders without verifying their suitability for continued service. Komer Carbonic Corp. fills and offers cylinders containing Carbon dioxide, for restaurants and other establishments.

FOR FURTHER INFORMATION CONTACT: Komer Carbonic Corp.: Mr. Dave Bamford, President or Mr. Mike Bamford, Vice President, 12120 Cloverdale Street, Detroit, MI 48204, Telephone 313-931-7373, to arrange for the return of these empty cylinders.

SUPPLEMENTARY INFORMATION: As a result of an extensive investigation of cylinder fillers in the Detroit Metropolitan area, PHMSA determined that Komer Carbonic Corp. improperly filled various types of high pressure US DOT cylinders with compressed gases without verifying that they met the appropriate safety requirements for continued use. US DOT Cylinders filled with carbon dioxide must be successfully requalified through a visual inspection and a pressure test at least once every 5 years. Cylinders that are not properly requalified as required may not possess the structural integrity to safely contain their contents under pressure during normal transportation and use. Extensive property damage, serious personal injury, or death could result from a rupture of a cylinder.

Because Komer Carbonic Corp. did not ensure their cylinders were requalified prior to filling them, and the potential exists for a catastrophic failure, PHMSA questions the condition of all of the cylinders owned and filled by Komer Carbonic Corp. in the past 5 years. These cylinders should be considered unsafe and unauthorized for the filling of hazardous material unless and until they are first subjected to a visual inspection and pressure test by an individual or company authorized by DOT to requalify DOT specification cylinders. Anyone who had their carbonated beverage service cylinders filled or provided by Komer Carbonic Corp. is advised to remove these cylinders from service immediately and contact a cylinder filler to have the cylinders depressurized. Komer Carbonic Corp. will contact their customers with further instructions on returning the empty cylinders.

Issued in Washington, DC, on September 18, 2013.
R. Ryan Posten,
Deputy Associate Administrator for Hazardous Materials Safety.

[FR Doc. 2013-23080 Filed 9-23-13; 8:45 am]

BILLING CODE 4910-60-P